DEPARTMENT OF LABOR

Employment and Training Administration

[TA-W-39,204]

A-1 Manufacturing, Inc., Garment Corporation of America, Brilliant, Alabama: Amended Certification Regarding Eligibility To Apply for Worker Adjustment Assistance

In accordance with Section 223 of the Trade Act of 1974 (19 U.S.C. 2273) the Department of Labor issued a Certification of Eligibility To Apply for Worker Adjustment Assistance on June 29, 2001, applicable to workers of A-1 Manufacturing, Inc., Brilliant, Alabama. The notice was published in the Federal Register on July 20, 2001 (66 FR 38026).

At the request of the company, the Department reviewed the certification for workers of the subject firm. The workers were engaged in the production of rental uniforms, such as coveralls, jackets, jumpsuits, and shopcoats. Information received from the company shows that the Garment Corporation of America is the parent firm of A-1 Manufacturing, Inc., Brilliant, Alabama. Information also shows that some workers separated from employment at the subject firm had their wages reported under a separate unemployment insurance (UI) tax account for Garment Corporation of America.

Accordingly, the Department is amending the certification to properly reflect this matter.

The intent of the Department's certification is to include all workers of A-1 Manufacturing, Inc., Brilliant, Alabama who were adversely affected by increased imports of rental uniforms, such as coveralls, jackets, jumpsuits, and shopcoats.

The amended notice applicable to [TA-W-39,204] is hereby issued as follows:

All workers of A-1 Manufacturing, Inc., Garment Corporation of America, Brilliant, Alabama who became totally or partially separated from employment on or after April 16, 2000, through June 29, 2003, are eligible to apply for adjustment assistance under Section 223 of the Trade Act of 1974.

Signed at Washington, DC, this 13th day of August, 2001.
Linda G. Poole,
Certifying Officer, Division of Trade Adjustment Assistance.

[FR Doc. 01-21844 Filed 8-28-01; 8:45 am]

BILLING CODE 4510-30-M